DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) +Elevation in feet (NAVD) # Depth in feet above ground ‸ Elevation in meters (MSL) Modified | Communities affected
Mississippi County, Arkansas, and Incorporated Areas
Docket No.: FEMA-B-1045
Mississippi River | Approximately at River Mile 755 | +238 | City of Luxora, Unincorporated Areas of Mississippi County.
| Approximately at River Mile 818 | +268
* National Geodetic Vertical Datum.
+ North American Vertical Datum.
# Depth in feet above ground.
‸ Mean Sea Level, rounded to the nearest 0.1 meter.
ADDRESSES
City of Luxora
Maps are available for inspection at 204 North Main Street, Luxora, AR 72358.
Unincorporated Areas of Mississippi County
Maps are available for inspection at 200 West Walnut Street, Blytheville, AR 72315.
Yolo County, California, and Incorporated Areas
Docket No.: FEMA-B-1035
Ponding Area | Area northwest of intersection of Interstate 505/County Road 90 and Russell Boulevard/Grant Avenue | #2 | Unincorporated Areas of Yolo County.
| Area north of Moody Slough Road, west of County Road 89, and east of County Road 88 | #2
| Area north of an unnamed road, west of County Road 89, and east of County Road 88 | #2
Zone AE Area | Area north of King Road, south of Mills Road, and east of County Road 104 | +23 | Unincorporated Areas of Yolo County.
* National Geodetic Vertical Datum.
+ North American Vertical Datum.
# Depth in feet above ground.
‸ Mean Sea Level, rounded to the nearest 0.1 meter.
ADDRESSES
Unincorporated Areas of Yolo County
Maps are available for inspection at the Yolo County Planning and Public Works Department, 292 West Beamer Street, Woodland, CA 95695.
Fairfield County, Connecticut (All Jurisdictions)
Docket No.: FEMA-B-1040
East Swamp Brook Farmill River | Entire reach within City of Danbury | +293 | City of Danbury, Town of Stratford.
| Approximately 175 feet downstream of State Route 110 | +14
| Approximately 2,400 feet downstream of Beard Saw Mill Road | +70
Five Mile River | At the upstream side of Old Rock Lane | +139 | City of Norwalk.
| Approximately 750 feet upstream of Old Rock Lane | +139
Horse Tavern Brook | At the upstream side of Park Avenue | +132 | City of Bridgeport, Town of Trumbull.
| Approximately 670 feet upstream of Park Avenue | +132
| Approximately 470 feet upstream of Old Town Road | +238
| Approximately 1,070 feet upstream of Old Town Road | +239
| Approximately 1,580 feet upstream of Old Town Road | +239
| Approximately 1,820 feet upstream of Old Town Road | +240
Housatonic River | Approximately 2,775 feet upstream of Merritt Parkway | +14 | Town of Newtown, Town of Stratford.
| Approximately 3,650 feet upstream of Merritt Parkway | +14
| At the confluence with the Halfway River | +108
| Approximately 15,800 feet upstream of the confluence with the Halfway River | +108
Laurel Brook | Approximately 320 feet upstream of the confluence with Rippowam River (Upper Reach) | +245 | City of Stamford.
| Approximately 40 feet upstream of Laurel Road | +274
Mianus River | At the upstream side of Valley Road | +73 | Town of Greenwich.
| Approximately 270 feet upstream of Valley Road | +73
Noroton River | Approximately 1,860 feet downstream of State Route 15 | +117 | City of Stamford, Town of Darien.
| Approximately 1,040 feet downstream of State Route 15 | +117
Norwalk River | Entire reach within Town of Weston | +302 | Town of Ridgefield, Town of Weston.
| Approximately 2,740 feet upstream of U.S. Route 7 | +367
| Approximately 3,500 feet upstream of U.S. Route 7 | +373
Rippowam River (Upper Reach) | Approximately 290 feet downstream of Cascade Road | +228 | Town of New Canaan.
| Approximately 3,360 feet upstream of Cascade Road | +243
Rooster River | At the upstream side of the railroad | +14 | Town of Fairfield.
| At the downstream side of Brooklawn Avenue | +19
Terehaute Brook | Approximately 1,720 feet downstream of Reservoir Street | +367 | City of Danbury.
| At the upstream side of Reservoir Street | +373
Tributary O at Intervale Road | Entire reach within Town of Stratford | +140 | Town of Stratford.
* National Geodetic Vertical Datum.
+ North American Vertical Datum.
# Depth in feet above ground.
‸ Mean Sea Level, rounded to the nearest 0.1 meter.
ADDRESSES
City of Bridgeport
Maps are available for inspection at the Engineering Department, 45 Lyon Terrace, Room 216, Bridgeport, CT 06604.
City of Danbury
Maps are available for inspection at City Hall, Engineering Department, 155 Deer Hill Avenue, Danbury, CT 06810.
City of Norwalk
Maps are available for inspection at City Hall, Planning and Zoning Department, 125 East Avenue, Room 223, Norwalk, CT 06856.
City of Stamford
Maps are available for inspection at the Environmental Protection Board, 888 Washington Boulevard, 7th Floor, Stamford, CT 06904.
Town of Darien
Maps are available for inspection at the Town Hall, 2 Renshaw Road, Darien, CT 06820.
Town of Fairfield
Maps are available for inspection at the Fairfield Engineering Department, Sullivan Independence Hall, 725 Old Post Road, Fairfield, CT 06824.
Town of Greenwich
Maps are available for inspection at the Town Hall, Planning and Zoning Department, 101 Field Point Road, Greenwich, CT 06830.
Town of New Canaan
Maps are available for inspection at the Town Hall, Office of the Town Clerk, 77 Main Street, New Canaan, CT 06840.
Town of Newtown
Maps are available for inspection at the Town Offices, Land Use Agency, 31 Pecks Lane, Newtown, CT 06470.
Town of Ridgefield
Maps are available for inspection at the Town Hall Annex, Planning and Zoning Department, 66 Prospect Street, Ridgefield, CT 06877.
Town of Stratford
Maps are available for inspection at the Town Hall, Planning and Zoning Department, 2725 Main Street, Stratford, CT 06615.
Town of Trumbull
Maps are available for inspection at the Town Hall, Engineering Department, 5866 Main Street, Trumbull, CT 06611.
Town of Weston
Maps are available for inspection at the Town Hall, Office of the Town Clerk, 56 Norfield Road, Weston, CT 06883.
Cobb County, Georgia, and Incorporated Areas
Docket No.: FEMA-B-1049
Chattahoochee River | Just upstream of the Morgan Falls Dam | +854 | Unincorporated Areas of Cobb County.
| Approximately 1,000 feet downstream of the confluence with Willeo Creek | +862
* National Geodetic Vertical Datum.
+ North American Vertical Datum.
# Depth in feet above ground.
‸ Mean Sea Level, rounded to the nearest 0.1 meter.
ADDRESSES
Unincorporated Areas of Cobb County
Maps are available for inspection at 100 Cherokee Street, Marietta, GA 30090.
Forsyth County, Georgia, and Incorporated Areas
Docket No.: FEMA-B-1049
Chattahoochee River | Just upstream of McGinnis Ferry Road | +908 | Unincorporated Areas of Forsyth County.
| Just downstream of the Buford Dam | +921
Dick Creek | At the confluence with the Chattahoochee River (backwater effects) | +909 | Unincorporated Areas of Forsyth County.
James Creek | At the confluence with the Chattahoochee River (backwater effects) | +916 | Unincorporated Areas of Forsyth County.
* National Geodetic Vertical Datum.
+ North American Vertical Datum.
# Depth in feet above ground.
‸ Mean Sea Level, rounded to the nearest 0.1 meter.
ADDRESSES
Unincorporated Areas of Forsyth County
Maps are available for inspection at 110 East Main Street, Cumming, GA 30040.
Fulton County, Georgia, and Incorporated Areas
Docket No.: FEMA-B-1049
Autry Mill Creek | At the confluence with the Chattahoochee River (backwater effects) | *889 | City of Johns Creek.
Chattahoochee River | Just upstream of the Morgan Falls Dam | *854 | City of Johns Creek, City of Roswell, City of Sandy Springs, Unincorporated Areas of Fulton County.
| Just downstream of McGinnis Ferry Road | *907
Johns Creek | At the confluence with the Chattahoochee River (backwater effects) | *890 | City of Johns Creek.
* National Geodetic Vertical Datum.
+ North American Vertical Datum.
# Depth in feet above ground.
‸ Mean Sea Level, rounded to the nearest 0.1 meter.
ADDRESSES
City of Johns Creek
Maps are available for inspection at 1200 Findley Road, Suite 400, Johns Creek, GA 30097.
City of Roswell
Maps are available for inspection at 38 Hill Street, Roswell, GA 30075.
City of Sandy Springs
Maps are available for inspection at 7840 Roswell Road, Sandy Springs, GA 30350.
Unincorporated Areas of Fulton County
Maps are available for inspection at 141 Pryor Street, Suite 10044, Atlanta, GA 30303.
Gwinnett County, Georgia, and Incorporated Areas
Docket No.: FEMA-B-1049
Brushy Creek | At the confluence with the Chattahoochee River | +906 | Unincorporated Areas of Gwinnett County.
Chattahoochee River | Just above Holcomb Bridge Road | +884 | City of Berkeley Lake, City of Duluth, City of Sugar Hill, City of Suwanee, Unincorporated Areas of Gwinnett County.
| Approximately 4,000 feet downstream from the Buford Dam | +920
Level Creek | At the confluence with the Chattahoochee River (backwater effects) | +911 | Unincorporated Areas of Gwinnett County.
Mill Creek (Stream 6) | At the confluence with the Chattahoochee River (backwater effects) | +895 | City of Berkeley Lake, Unincorporated Areas of Gwinnett County.
Richland Creek | At the confluence with the Chattahoochee River (backwater effects) | +917 | Unincorporated Areas of Gwinnett County.
Rogers Creek | At the confluence with the Chattahoochee River (backwater effects) | +899 | City of Duluth, Unincorporated Areas of Gwinnett County.
Stream 1 | At the confluence with the Chattahoochee River (backwater effects) | +886 | Unincorporated Areas of Gwinnett County.
Stream 2 | At the confluence with the Chattahoochee River (backwater effects) | +887 | Unincorporated Areas of Gwinnett County.
Stream 3 | At the confluence with the Chattahoochee River (backwater effects) | +889 | Unincorporated Areas of Gwinnett County.
Stream 4 | At the confluence with the Chattahoochee River (backwater effects) | +891 | Unincorporated Areas of Gwinnett County.
Stream 5 | At the confluence with the Chattahoochee River (backwater effects) | +894 | Unincorporated Areas of Gwinnett County.
Stream 8 | At the confluence with the Chattahoochee River (backwater effects) | +897 | City of Duluth, Unincorporated Areas of Gwinnett County.
Stream 10 | At the confluence with the Chattahoochee River (backwater effects) | +903 | Unincorporated Areas of Gwinnett County.
Suwanee Creek | At the confluence with the Chattahoochee River (backwater effects) | +905 | Unincorporated Areas of Gwinnett County.
Swilling Creek | At the confluence with the Chattahoochee River (backwater effects) | +896 | City of Duluth, Unincorporated Areas of Gwinnett County.
* National Geodetic Vertical Datum.
+ North American Vertical Datum.
# Depth in feet above ground.
‸ Mean Sea Level, rounded to the nearest 0.1 meter.
ADDRESSES
City of Berkeley Lake
Maps are available for inspection at 4040 South Berkeley Road Northwest, Berkeley Lake, GA 30096.
City of Duluth
Maps are available for inspection at 3167 Main Street, 2nd floor, Duluth, GA 30096.
City of Sugar Hill
Maps are available for inspection at 4988 West Broad Street, Sugar Hill, GA 30518.
City of Suwanee
Maps are available for inspection at 373 Highway 23, Suwanee, GA 30024.
Unincorporated Areas of Gwinnett County
Maps are available for inspection at 75 Langley Drive, Lawrenceville, GA 30045.
Henderson County, Illinois, and Incorporated Areas
Docket No.: FEMA-B-1056
Mississippi River | Just downstream of Main Street extended in Lomax, Illinois (approximately 395 miles upstream of the confluence with the Ohio River) | +531 | Unincorporated Areas of Henderson County, Village of Gulfport, Village of Lomax.
| Approximately 400 feet upstream of 1100 N extended (approximately 403 miles upstream of the confluence with the Ohio River) | +534
* National Geodetic Vertical Datum.
+ North American Vertical Datum.
# Depth in feet above ground.
‸ Mean Sea Level, rounded to the nearest 0.1 meter.
ADDRESSES
Unincorporated Areas of Henderson County
Maps are available for inspection at the Henderson County Courthouse, 307 Warren Street, Oquawka, IL 61469.
Village of Gulfport
Maps are available for inspection at the Henderson County Courthouse, 307 Warren Street, Oquawka, IL 61469.
Village of Lomax
Maps are available for inspection at the Village Hall, 861 Atchison Avenue, Lomax, IL 61454.
Pike County, Mississippi, and Incorporated Areas
Docket No.: FEMA-B-1047
Tangipahoa River | Approximately 0.68 mile downstream of State Highway 575 | +233 | Town of Osyka.
| Approximately 1,100 feet downstream of State Highway 575 | +236
* National Geodetic Vertical Datum.
+ North American Vertical Datum.
# Depth in feet above ground.
‸ Mean Sea Level, rounded to the nearest 0.1 meter.
ADDRESSES
Town of Osyka
Maps are available for inspection at 215 West Liberty Street, Osyka, MS 39648.
Gage County, Nebraska, and Incorporated Areas
Docket No.: FEMA-B-1024
Big Blue River | Approximately 900 feet upstream of State Highway 8 | +1,195 | Unincorporated Areas of Gage County.
| Approximately 0.5 mile upstream of State Highway 8 | +1,196
Big Blue River Tributary 44 | Upstream of South 25th Street | +1,259 | City of Beatrice.
| Downstream of Scott Street | +1,273
Big Blue River backwater on Bills Creek | Approximately 1,200 feet downstream of South A Street | +1,217 | City of Wymore.
| Approximately 600 feet downstream of South A Street | +1,217
* National Geodetic Vertical Datum.
+ North American Vertical Datum.
# Depth in feet above ground.
‸ Mean Sea Level, rounded to the nearest 0.1 meter.
ADDRESSES
City of Beatrice
Maps are available for inspection at City Hall, 400 Ella Street, Beatrice, NE 68310.
City of Wymore
Maps are available for inspection at the City Office, 115 West East Street, Wymore, NE 68466.
Unincorporated Areas of Gage County
Maps are available for inspection at the County Highway Department, 823 South 8th Street, Beatrice, NE 68310.
Madison County, Ohio, and Incorporated Areas
Docket No.: FEMA-B-1040
Little Darby Creek | Approximately 30,610 feet upstream of the confluence with Darby Creek | +881 | Village of West Jefferson.
| Approximately 38,850 feet upstream of the confluence with Darby Creek | +894
* National Geodetic Vertical Datum.
+ North American Vertical Datum.
# Depth in feet above ground.
‸ Mean Sea Level, rounded to the nearest 0.1 meter.
ADDRESSES
Village of West Jefferson
Maps are available for inspection at 28 East Main Street, West Jefferson, OH 43612.
Trumbull County, Ohio, and Incorporated Areas
Docket No.: FEMA-B-1035
Duck Creek | At the mouth of the Mahoning River | +891 | City of Warren.
| Approximately 600 feet downstream of Risher Street | +891
Mahoning River | Approximately 8,500 feet upstream of I-80 | +855 | Village of McDonald.
| Approximately 17,600 feet upstream of I-80 | +858
* National Geodetic Vertical Datum.
+ North American Vertical Datum.
# Depth in feet above ground.
‸ Mean Sea Level, rounded to the nearest 0.1 meter.
ADDRESSES
Village of McDonald
Maps are available for inspection at 451 Ohio Avenue, McDonald, OH 44437.
City of Warren
Maps are available for inspection at 540 Laird Avenue Southeast, Warren, OH 44484.
Nelson County, Virginia, and Incorporated Areas
Docket No.: FEMA-B-1040
Davis Creek | Approximately 983 feet upstream of the confluence with the Rockfish River | +538 | Unincorporated Areas of Nelson County.
| Approximately 150 feet downstream of Perry Lane | +862
East Branch Hat Creek | Approximately 215 feet upstream of the confluence with Hat Creek | +674 | Unincorporated Areas of Nelson County.
| At the intersection of Shaeffers Hollow Lane | +802
Hat Creek | Approximately 730 feet upstream of the confluence with the Tye River | +648 | Unincorporated Areas of Nelson County.
| Approximately 610 feet downstream of East Branch Loop | +790
Muddy Creek | Approximately 544 feet upstream of the confluence with Davis Creek | +550 | Unincorporated Areas of Nelson County.
| Approximately 160 feet downstream of Anderson Lane | +689
Rockfish River | Approximately 400 feet downstream of the confluence with Ivy Creek | +399 | Unincorporated Areas of Nelson County.
| Approximately 2,200 feet downstream of Laurel Road | +458
| Approximately 1,186 feet downstream of Rock Spring Road | +477
| Approximately 477 feet downstream of the confluence with South Fork Rockfish River | +588
Tye River | At Tye Brook Highway | +604 | Unincorporated Areas of Nelson County.
| Approximately 2,300 feet downstream of the confluence with Hat Creek | +641
| Approximately 1,200 feet upstream of the confluence with Unnamed Tributary No. 6 to Tye River | +734
| Approximately 1,941 feet downstream of Carter Hill Road | +821
| Approximately 2,100 feet upstream of State Route 682 | +892
| At the confluence with North Fork Tye River | +1,141
* National Geodetic Vertical Datum.
+ North American Vertical Datum.
# Depth in feet above ground.
‸ Mean Sea Level, rounded to the nearest 0.1 meter.
ADDRESSES
Unincorporated Areas of Nelson County
Maps are available for inspection at 80 Front Street, Lovingston, VA 22949.

(Catalog of Federal Domestic Assistance No. 97.022, “Flood Insurance.”)

Sandra K. Knight,
Deputy Federal Insurance and Mitigation Administrator, Mitigation, Department of Homeland Security, Federal Emergency Management Agency.

[FR Doc. 2010-14636 Filed 6-16-10; 8:45 am]

BILLING CODE 9110-12-P